OFFICE OF THE UNITED STATES TRADE REPRESENTATIVE

Generalized System of Preferences (GSP); Notice of the Results of the 2002 Annual Product Reviews, 2001 Special Three Country Review, GSP-AGOA 2001 Review, and Previously Deferred Product Decisions

AGENCY: Office of the United States Trade Representative.

ACTION: Notice.

SUMMARY:

This notice announces the disposition of the product petitions accepted for review in the combined 2001/2002 GSP Annual Review and the Special Three Country GSP Review for Argentina, the Philippines, and Turkey, the results of the 2002 De Minimis Waiver and Redesignation Review, the 2002 competitive need limitation removals, the 2001 GSP-AGOA (African Growth and Opportunity Act) Review, and other previously deferred product decisions.

FOR FURTHER INFORMATION CONTACT: The GSP Subcommittee, Office of the United States Trade Representative (USTR), 1724 F Street, NW., Room F-220, Washington, DC 20508. The telephone number is (202) 395-6971 and the facsimile number is (202) 395-9481.

SUPPLEMENTARY INFORMATION: The GSP program provides for the duty-free importation of designated articles when imported from beneficiary developing countries. The GSP program is authorized by title V of the Trade Act of 1974 (19 U.S.C. 2461, et seq.), as amended (the “Trade Act”), and is implemented in accordance with Executive Order 11888 of November 24, 1975, as modified by subsequent Executive Orders and Presidential Proclamations.

In the combined 2001/2002 Annual Review, the GSP Subcommittee of the Trade Policy Staff Committee reviewed petitions to change the product coverage of the GSP. The disposition of those petitions is described in Annex I of this notice.

The disposition of petitions reviewed in the 2001 Special Three Country Review for Argentina, the Philippines, and Turkey is described in Annex II.

In the 2002 De Minimis Waiver and Redesignation Review, the GSP Subcommittee reviewed the appraised import values of each GSP-eligible article in 2002 to determine whether an article from a GSP beneficiary developing country exceeded one of the GSP Competitive Need Limitations (CNLs). De minimis waivers were granted to certain articles which exceeded the 50 percent import share CNL, but for which the aggregate value of the imports of that article was below the 2002 de minimis level of $16 million. Annex III to this notice contains a list of the articles and countries granted de minimis waivers. Certain articles from GSP-eligible countries that had previously exceeded one of the CNLs, but had fallen below the CNLs in 2002 ($105 million and 50 percent of U.S. imports of the article), were redesignated for GSP eligibility. These articles are listed in Annex IV to this notice.

Articles that exceeded one of the GSP CNLs in 2002, and that are newly excluded from GSP eligibility, are listed in Annex V to this notice.

The disposition of petitions in the GSP-AGOA 2001 Canned Pears and Manganese Metal Review is described in Annex VI.

The disposition of a product petition on which a decision in a previous review was deferred is described in Annex VII.

Steven Falken,
Executive Director GSP, Chairman, GSP Subcommittee.

BILLING CODE 3190-01-P

[FR Doc. 03-16937 Filed 7-2-03; 8:45 am]

BILLING CODE 3190-01-C